DEPARTMENT OF COMMERCE

International Trade Administration

[A-428-832, A-201-830, A-841-805, A-274-804, A-823-812]

Carbon and Alloy Steel Wire Rod From Germany, Mexico, Moldova, Trinidad and Tobago, and Ukraine: Notice of Preliminary Determination of Critical Circumstances

AGENCY: Import Administration, International Trade Administration, Department of Commerce.

ACTION: Carbon and Alloy Steel Wire Rod From Germany, Mexico, Moldova, Trinidad and Tobago, and Ukraine: Notice of Preliminary Determination of Critical Circumstances.

EFFECTIVE DATE: February 11, 2002.

SUMMARY: The Department of Commerce has preliminarily determined that critical circumstances exist for imports of carbon and alloy steel wire rod (steel wire rod) from Germany, Mexico, Moldova, Trinidad and Tobago, and Ukraine, pursuant to section 733(e)(2) of the Tariff Act of 1930, as amended (the Tariff Act).

FOR FURTHER INFORMATION CONTACT: Mark Flessner at (202) 482-6312 (Germany); Marin Weaver at (202) 482-2336 (Mexico); Scott Lindsay at (202) 482-0780 (Moldova), Magd Zalok at (202) 482-4162 (Trinidad and Tobago); or Lori Ellison at (202) 482-5811 (Ukraine), Import Administration, International Trade Administration, U.S. Department of Commerce, 14th Street and Constitution Avenue, NW., Washington, DC 20230.

SUPPLEMENTARY INFORMATION:

The Applicable Statute and Regulations

Unless otherwise indicated, all citations to the statute are references to the Tariff Act of 1930, as amended (the Tariff Act). In addition, unless otherwise indicated, all citations to the Department's regulations are references to the provisions codified at 19 CFR part 351 (2000).

Background

On October 2, 2001, the Department initiated investigations to determine whether imports of steel wire rod from, inter alia, Brazil, Germany, Mexico, Moldova, Trinidad and Tobago, and Ukraine are being, or are likely to be, sold in the United States at less than fair value (66 FR 50164, October 2, 2001). On October 29, 2001, the International Trade Commission (the Commission) published its determination that there is a reasonable indication of material injury to the domestic industry from imports of steel wire rod from all of these countries. On December 5, 2001, petitioners ¹ alleged that there is a reasonable basis to believe or suspect critical circumstances exist with respect to the antidumping investigations of steel wire rod from Brazil, Germany, Mexico, Moldova and Ukraine. Petitioners added Trinidad and Tobago to its allegation in a subsequent letter dated December 21, 2001.

¹ Petitioners are: Co-Steel Raritan, Inc., GS Industries, Keystone Consolidated Industries, Inc., and North Star Steel Texas, Inc.

In accordance with 19 CFR 351.206(c)(2)(i), because petitioners submitted critical circumstances allegations more than 20 days before the scheduled date of the preliminary determination, the Department must issue preliminary critical circumstances determinations not later than the date of the preliminary determination. In a policy bulletin issued on October 8, 1998, the Department stated it may issue a preliminary critical circumstances determination prior to the date of the preliminary determinations of sales at less than fair value, assuming sufficient evidence of critical circumstances is available. See Change in Policy Regarding Timing of Issuance of Critical Circumstances Determinations, 63 FR 55364. In accordance with this policy, at this time we are issuing the preliminary critical circumstances decision in the investigations of steel wire rod from Germany, Mexico, Moldova, Trinidad and Tobago, and Ukraine.² A full discussion of our analyses may be found below and in the concurrent country-specific memoranda, dated February 4, 2002 (Critical Circumstances Memoranda). Public versions of these memoranda are on file in the case-specific public files maintained by the Import Administration Central Records Unit, in Room B-099 of the Department of Commerce building.

² We intend to issue our preliminary critical circumstances findings with respect to Brazil concurrenlty with our preliminary dumping determination.

Critical Circumstances

Section 733(e)(1) of the Tariff Act provides that the Department will preliminarily determine that critical circumstances exist if there is a reasonable basis to believe or suspect that: (A)(i) There is a history of dumping and material injury by reason of dumped imports in the United States or elsewhere of the subject merchandise; or (ii) the person by whom, or for whose account, the merchandise was imported knew or should have known that the exporter was selling the subject merchandise at less than its fair value and that there was likely to be material injury by reason of such sales; and, (B) there have been massive imports of the subject merchandise over a relatively short period. Section 351.206(h)(1) of the Department's regulations provides that, in determining whether imports of the subject merchandise have been “massive,” the Department normally will examine: (i) the volume and value of the imports; (ii) seasonal trends; and (iii) the share of domestic consumption accounted for by the imports. In addition, section 351.206(h)(2) of the Department's regulations provides that an increase in imports of 15 percent during the “relatively short period” of time may be considered “massive.” Section 351.206(i) of the Department's regulations defines “relatively short period” as normally being the period beginning on the date the proceeding begins (i.e., the date the petition is filed) and ending at least three months later. The regulations also provide, however, that if the Department finds importers, exporters, or producers had reason to believe, at some time prior to the beginning of the proceeding, that a proceeding was likely, the Department may consider a period of not less than three months from that earlier time.

In determining whether the relevant statutory criteria have been satisfied, we considered: (i) The evidence presented by petitioners in their December 5, 19, and 21, 2001, and their January 25, 2002 letters; (ii) exporter-specific shipment data requested by the Department; (iii) comments by interested parties in response to petitioners' allegations; (iii) import data available through the International Trade Commission's DataWeb website; and (iv) the Commission's preliminary injury determinations.

History of Dumping

To determine whether there is a history of injurious dumping of the merchandise under investigation, in accordance with section 733(e)(1)(A)(i) of the Tariff Act, the Department normally considers evidence of an existing antidumping duty order on the subject merchandise in the United States or elsewhere to be sufficient. See Preliminary Determination of Critical Circumstances: Steel Concrete Reinforcing Bars From Ukraine and Moldova, 65 Fed. Reg. 70,696 (November 27, 2000). On November 16, 1983, the Department published an antidumping duty order on steel wire rod from Trinidad and Tobago. See Antidumping Duty Order; Carbon Steel Wire Rod from Trinidad and Tobago, 48 FR 52111. Accordingly, we find a history of dumping of steel wire rod from this country. However, we are not aware of any antidumping order in any country on steel wire rod from Germany, Moldova, or Ukraine. For this reason, we do not find a history of injurious dumping of the subject merchandise from these countries pursuant to section 733(e)(1)(A)(i) of the Tariff Act.

Importer Knowledge of Injurious Dumping

In determining whether there is a reasonable basis to believe or suspect that an importer knew or should have known the exporter was selling steel wire rod at less than fair value, the Department normally considers margins of 25 percent or more for export price sales or 15 percent or more for constructed export price transactions sufficient to impute knowledge of dumping. See, e.g., Preliminary Determination of Sales at Less Than Fair Value: Certain Cut-to-Length Carbon Steel Plate from the People's Republic of China, 62 FR 31972, 31978 (October 19, 2001). The Department normally bases its preliminary decision with respect to knowledge on the margins calculated in the preliminary determination. However, because section 733(e)(1) of the Tariff Act permits the Department to make a preliminary critical circumstances determination prior to the issuance of the preliminary dumping determination, we may rely on other information to make an early critical circumstances determination.

In the instant cases we find the antidumping petition contains sufficient information to conduct our analysis of this criterion. The petition estimated dumping margins for Germany of 37.78 to 99.32 percent; for Mexico of 29.63 to 40.52 percent; for Moldova of 159.00 percent; for Trinidad and Tobago of 87.27 percent; and for Ukraine of 101.92 percent. See Initiation of Antidumping Duty Investigations: Carbon and Certain Steel Wire Rod from Brazil, Canada, Egypt, Germany, Indonesia, Mexico, Moldova, South Africa, Trinidad and Tobago, Ukraine, and Venezuela, 66 FR 50164 (October 2, 2001) (Initiation Notice).³ Because the highest estimated dumping margin calculated in the petition for each of these countries is greater than 25 percent, there is a reasonable basis to impute knowledge of dumping with respect to imports from these countries. Therefore, we have imputed to importers knowledge of dumping of the subject merchandise exported from Germany, Mexico, Moldova, Trinidad and Tobago, and Ukraine.

³ In some cases, the Department adjusted certain elements of the petitioners' calculations; therefore, the margins presented above may differ from those presented in the August 31, 2001 petitions.

In determining whether there is a reasonable basis to believe or suspect an importer knew or should have known there was likely to be material injury by reason of dumped imports, the Department normally will look to the preliminary injury determination of the Commission. If the Commission finds a reasonable indication of present material injury to the relevant U.S. industry, the Department will determine a reasonable basis exists to impute importer knowledge there was likely to be material injury by reason of dumped imports. See, e.g., Final Determination of Sales at Less Than Fair Value: Certain Cut-to-Length Carbon Steel Plate from the People's Republic of China, 62 FR 61967 (November 20, 1997). In this case the Commission has found a reasonable indication of present material injury due to dumping of subject imports of steel wire rod from each of the named countries. See Carbon and Certain Alloy Steel Wire Rod From Brazil, Canada, Egypt, Germany, Indonesia, Mexico, Moldova, South Africa, Trinidad and Tobago, Turkey, Ukraine, and Venezuela, USITC Publication No. 3456, October 2001 (Preliminary). As a result, the Department has determined there is a reasonable basis to believe or suspect importers of steel wire rod from Germany, Mexico, Moldova, Trinidad and Tobago, and Ukraine knew or should have known there was likely to be material injury by reason of these dumped imports.

Massive Imports

In determining whether there are “massive imports” over a “relatively short period,” pursuant to section 733(e)(1)(B) of the Tariff Act, the Department normally compares the import volumes of the subject merchandise for at least three months immediately preceding the filing of the petition (i.e., the “base period”) to a comparable period of at least three months following the filing of the petition (i.e., the “comparison period”). However, as stated in section 351.206(i) of the Department's regulations, if the Secretary finds importers, exporters, or producers had reason to believe at some time prior to the beginning of the proceeding that a proceeding was likely, then the Secretary may consider a time period of not less than three months from that earlier time. Imports normally will be considered massive when imports during the comparison period have increased by 15 percent or more compared to imports during the base period.

For the reasons set forth in the Critical Circumstances Memoranda, we find sufficient bases exist for finding importers, or exporters, or producers knew or should have known antidumping cases were pending on steel wire rod imports from Germany, Mexico, Moldova, Trinidad and Tobago, and Ukraine by June 2001 at the latest. Accordingly, we determined December 2000 through May 2001 should serve as the “base period,” while June 2001 through November 2001 should serve as the “comparison period” in determining whether or not imports have been massive in the comparison period.

Pursuant to 19 CFR 351.206(h), we found imports increased by more than 15 percent for Germany, Mexico, Moldova, and Ukraine; accordingly, we find that imports have been massive in the comparison period for each of the named countries. With respect to Trinidad and Tobago, we found imports for the sole respondent, Caribbean Ispat, Ltd., increased by well over 15 percent. However, imports for Trinidad and Tobago as a whole rose by only 12.11 percent. Accordingly, we find imports were massive for Caribbean Ispat, Ltd., but not for all other exporters or producers. See the Critical Circumstances Memoranda for more detailed information.

In summary, we find there is a reasonable basis to believe or suspect importers had knowledge of dumping and the likelihood of material injury with respect to imports of steel wire rod from Germany, Mexico, Moldova, Trinidad and Tobago, and Ukraine. We further find there have been massive imports of steel wire over a relatively short period from Germany, Mexico, Moldova, and Ukraine. We also find there have been massive imports over a relatively short time for Caribbean Ispat, Ltd. of Trinidad and Tobago; such imports have not been massive for all other exporters or producers from that country.

Conclusion

Given the analysis summarized above, and described in more detail in the Critical Circumstances Memoranda, we preliminarily determine critical circumstances exist for imports of steel wire rod from Germany, Mexico, Moldova, and Ukraine, as well as for Caribbean Ispat, Ltd. of Trinidad and Tobago. Further, we preliminarily find critical circumstances do not exist for “all others” from Trinidad and Tobago.

Suspension of Liquidation

In accordance with section 733(e)(2) of the Tariff Act, if the Department issues an affirmative preliminary determination of sales at less than fair value in the investigation with respect to imports of steel wire rod, the Department, at that time, will direct the U.S. Customs Service (Customs) to suspend liquidation of all entries of steel wire rod from Germany, Mexico, Moldova, Trinidad and Tobago (from Caribbean Ispat, Ltd., only), and Ukraine that are entered, or withdrawn from warehouse, for consumption on or after 90 days prior to the date of publication in the Federal Register of our preliminary determinations in these investigations. Customs shall require a cash deposit or posting of a bond equal to the estimated preliminary dumping margins reflected in the preliminary determinations published in the Federal Register. The suspension of liquidation to be issued after our preliminary determinations will remain in effect until further notice.

Final Critical Circumstances Determinations

We will make final determinations concerning critical circumstances for all countries named in petitioners' allegations when we make our final dumping determinations in these investigations, which will be 75 days (unless extended) after issuance of the preliminary dumping determinations.

Commission Notification

In accordance with section 733(f) of the Tariff Act, we will notify the Commission of our determinations.

This notice is issued and published pursuant to section 777(i) of the Tariff Act.

Dated: February 4, 2002.
Faryar Shirzad,
Assistant Secretary for Import Administration.

[FR Doc. 02-3255 Filed 2-8-02; 8:45 am]

BILLING CODE 3510-DS-P